COMMITTEE FOR THE IMPLEMENTATION OF TEXTILE AGREEMENTS

Designations Under the Textile and Apparel Short Supply Provisions of the African Growth and Opportunity Act (AGOA) and the United States-Caribbean Basin Trade Partnership Act (CBTPA)

September 20, 2001.

AGENCY: Committee for the Implementation of Textile Agreements (CITA).

ACTION: Determination

EFFECTIVE DATE: September 24, 2001.

SUMMARY: The Committee for the Implementation of Textile Agreements (Committee) has determined, under the AGOA, that certain fabrics, for use in blouses and nightwear, cannot be supplied by the domestic industry in commercial quantities in a timely manner, and, under the CBTPA, that 100 percent polyester crushed panne velour fabric of circular knit construction for use in apparel cannot be supplied by the domestic industry in commercial quantities in a timely manner. The Committee hereby designates certain apparel articles that are both cut and sewn or otherwise assembled in an eligible country, from these fabrics, as eligible for quota-free and duty-free treatment under the textile and apparel short supply provisions of the AGOA and the CBTPA, and eligible under Harmonized Tariff Schedule of the United States subheadings 9819.11.24 or 9820.11.27, to enter free of quotas and duties.

FOR FURTHER INFORMATION CONTACT: Philip J. Martello, Office of Textiles and Apparel, U.S. Department of Commerce, (202) 482-3400.

SUPPLEMENTARY INFORMATION:

Authority: Section 112(b)(5)(B) of the AGOA and Section 211 of the CBTPA, amending Section 213(b)(2)(A)(v)(II) of the Caribbean Basin Economic Recovery Act (CBERA); Presidential Proclamations 7350 and 7351 of October 2, 2000; Executive Order No. 13191 of January 17, 2001.

Background

The short supply provision of the AGOA provides for duty-free and quota-free treatment for apparel articles that are both cut (or knit-to-shape) and sewn or otherwise assembled in one or more beneficiary sub-Saharan African countries from fabric or yarn that is not formed in the United States or a beneficiary sub-Saharan African country if it has been determined that such yarns or fabrics cannot be supplied by the domestic industry in commercial quantities in a timely manner and certain procedural requirements have been met. In Presidential Proclamation 7350, the President proclaimed that this treatment would apply to such apparel articles of fabrics or yarns designated by the appropriate U.S. government authority in the Federal Register. In Executive Order 13191, the President authorized the Committee to determine whether particular yarns or fabrics cannot be supplied by the domestic industry in commercial quantities in a timely manner under the AGOA.

Similarly, the short supply provision of the CBTPA provides for duty-free and quota-free treatment for apparel articles that are both cut (or knit-to-shape) and sewn or otherwise assembled in one or more beneficiary CBTPA country from fabric or yarn that is not formed in the United States or a beneficiary CBTPA country if it has been determined that such yarns or fabrics cannot be supplied by the domestic industry in commercial quantities in a timely manner and certain procedural requirements have been met. In Presidential Proclamation 7351, the President proclaimed that this treatment would apply to such apparel articles of fabrics or yarns designated by the appropriate U.S. government authority in the Federal Register. In Executive Order 13191, the President authorized the Committee to determine whether particular yarns or fabrics cannot be supplied by the domestic industry in commercial quantities in a timely manner.

On March 1, 2001, the Committee received a petition alleging that certain fabrics, set forth in Annex I, for use in blouses and nightwear, cannot be supplied by the domestic industry in commercial quantities in a timely manner and requesting that such apparel articles of such fabrics be eligible for preferential treatment under the AGOA. On March 8, 2001, the Committee requested public comment on the petition (66 FR 13912). On April 10, 2001, the Committee and the U.S. Trade Representative (USTR) sought the advice of the Industry Sector Advisory Committee for Wholesaling and Retailing and the Industry Sector Advisory Committee for Textiles and Apparel (collectively, the ISACs). On April 10, 2001, the Committee and USTR offered to hold consultations with the Committee on Ways and Means of the House of Representatives and the Committee on Finance of the Senate (collectively, the Congressional Committees). On April 16, 2001, the U.S. International Trade Commission (USITC) provided advice on the petition. Based on the information and advice received and its understanding of the industry, the Committee determined that the fabrics set forth in the petition cannot be supplied by the domestic industry in commercial quantities in a timely manner. On April 30, 2001, the Committee and USTR submitted a report to the Congressional Committees that set forth the action proposed, the reasons for such action, and the advice obtained from the ISACs and the USITC. A period of 60 calendar days since this report was submitted has expired, as required by the AGOA.

On March 6, 2001, the Committee received a petition alleging that 100 percent polyester crushed panne velour fabric of circular knit construction, classified in subheading 6001.92.00 and reported under statistical reporting number 6001.92.0030 of the Harmonized Tariff Schedule of the United States (HTSUS), cannot be supplied by the domestic industry in commercial quantities in a timely manner and requesting that apparel articles of such fabrics be eligible for preferential treatment under the CBTPA. On March 12, 2001, the Committee requested public comment on the petition (66 FR 14357). On April 11, 2001, the Committee and USTR sought the advice of the ISACs and offered to hold consultations with the Congressional Committees. On April 23, 2001, the USITC provided advice on the petition. Based on the information and advice received and its understanding of the industry, the Committee determined that the fabric set forth in the petition cannot be supplied by the domestic industry in commercial quantities in a timely manner. On May 3, 2001, the Committee and USTR submitted a report to the Congressional Committees that set forth the action proposed, the reasons for such action, and the advice obtained from the ISACs and the USITC. A period of 60 calendar days since this report was submitted has expired, as required by the CBTPA.

CITA hereby designates as eligible for preferential treatment under subheading 9819.11.24 of the HTSUS, for purposes of the AGOA, blouses and nightwear that are both cut and sewn or otherwise assembled in one or more eligible beneficiary sub-Saharan African countries, provided the fabric of the outer shell is of a fabric set forth in Annex I and that all other fabrics are wholly formed in the United States from yarns wholly formed in the United States, imported directly into the customs territory of the United States from an eligible beneficiary sub-Saharan African country. An “eligible beneficiary sub-Saharan African country” means a country which the President has designated as a beneficiary sub-Saharan African country under section 506A of the Trade Act of 1974 (19 U.S.C. 2466a) and which has been the subject of a finding, published in the Federal Register, that the country has satisfied the requirements of section 113 of the AGOA (19 U.S.C. 3722) and resulting in the enumeration of such country in U.S. note 1 to subchapter XIX of chapter 98 of the HTSUS.

CITA hereby designates as eligible for preferential treatment under subheading 9820.11.27 of the HTSUS, for purposes of the CBTPA, apparel articles that are both cut and sewn or otherwise assembled in one or more eligible CBTPA beneficiary countries, provided the fabric of the outer shell is of crushed panne velour fabric wholly of polyester, of circular knit construction, classified in subheading 6001.92.00 (statistical reporting number 6001.92.0030) of the HTSUS and that all other fabrics are wholly formed in the United States from yarns wholly formed in the United States, that are imported directly into the customs territory of the United States from an eligible CBTPA beneficiary country. An “eligible CBTPA beneficiary country” means a country which the President has designated as a CBTPA beneficiary country under section 213(b)(5)(B) of the CBERA (19 U.S.C. 2703(b)(5)(B)) and which has been the subject of a finding, published in the Federal Register, that the country has satisfied the requirements of section 213(b)(4)(A)(ii) of the CBERA (19 U.S.C. 2703(b)(4)(A)(ii)) and resulting in the enumeration of such country in U.S. note 1 to subchapter XX of chapter 98 of the HTSUS.

ANNEX I
(a) Fabrics of subheadings 5208.21, 5208.22, 5208.29, 5208.31, 5208.32, 5208.39, 5208.41, 5208.42, 5208.49, 5208.51, 5208.52 or 5208.59, of average yarn number exceeding 135 metric;
(b) Fabrics of subheading 5513.11 or 5513.21, not of square construction, containing more than 70 warp ends and filling picks per square centimeter, of average yarn number exceeding 135 metric;
(c) Fabrics of subheadings 5210.21 or 5210.31, not of square construction, containing more than 70 warp ends and filling picks per square centimeter, of average yarn number exceeding 135 metric;
(d) Fabrics of subheadings 5208.22 or 5208.32, not of square construction, containing more than 75 warp ends and filling picks per square centimeter, of average yarn number exceeding 135 metric;
(e) Fabrics of subheadings 5407.81, 5407.82 or 5407.83, weighing less than 170 grams per square meter, having a dobby weave created by a dobby attachment, of average yarn number exceeding 135 metric;
(f) Fabrics of subheadings 5208.42 or 5208.49, not of square construction, containing more than 85 warp ends and filling picks per square centimeter, of average yarn number exceeding 85 metric, or exceeding 135 metric if the fabric is of oxford construction (a modified basket weave with a large filling yarn having no twist woven under and over two single, twisted warp yarns);
(g) Fabrics of subheading 5208.51, of square construction, containing more than 75 warp ends and filling picks per square centimeter, made with single yarns, of average yarn number 95 or greater metric;
(h) Fabrics of subheading 5208.41, of square construction, with a gingham pattern, containing more than 85 warp ends and filling picks per square centimeter, made with single yarns, of average yarn number 135 or greater metric, and characterized by a check effect produced by the variation in color of the yarns in the warp and filling;
(i) Fabrics of subheading 5208.41, with the warp colored with vegetable dyes, and the filling yarns white or colored with vegetable dyes, of average yarn number greater than 65 metric.

D. Michael Hutchinson,
Acting Chairman, Committee for the Implementation of Textile Agreements.

[FR Doc.01-24071 Filed 9-24-01; 8:45 am]

BILLING CODE 3510-DR-S